DEPARTMENT OF ENERGY

Federal Energy Regulatory Commission

[Project No. 14179-000; Project No. 14194-000]

Lock+ Hydro Friends Fund XLIV; FFP Project 51, LLC; Notice Announcing Preliminary Permit Drawing

The Commission has received two preliminary permit applications deemed filed on May 3, 2011, at 8:30 a.m.,¹ for proposed projects to be located on the Arkansas River, in Jefferson County, Arkansas. The applications were filed by Lock+ Hydro Friends Fund XLIV for Project No. 14179-000 and FFP Project 51, LLC for Project No. 14194-000.

¹ Under the Commission's Rules of Practice and Procedure, any document received after regular business hours is considered filed at 8:30 a.m. on the next regular business day. 18 CFR 385.2001(a)(2) (2011).

On February 22, 2012, at 9 a.m. (Eastern Time), the Secretary of the Commission, or her designee, will conduct a random drawing to determine the filing priority of the applicants identified in this notice. The Commission will select among competing permit applications as provided in section 4.37 of its regulations.² The priority established by this drawing will be used to determine which applicant, among those with identical filing times, will be considered to have the first-filed application.

² 18 CFR 4.37 (2011).

The drawing is open to the public and will be held in room 2C, the Commission Meeting Room, located at 888 First St. NE., Washington, DC 20426. A subsequent notice will be issued by the Secretary announcing the results of the drawing.

Dated: February 13, 2012.
Nathaniel J. Davis, Sr.,
Deputy Secretary.

[FR Doc. 2012-3883 Filed 2-17-12; 8:45 am]

BILLING CODE 6717-01-P